DEPARTMENT OF ENERGY

Federal Energy Regulatory Commission

[Project No. 96-045]

Pacific Gas and Electric Company; Notice of Intent To File License Application, Filing of Pre-Application Document (Pad), Commencement of Pre-Filing Process, and Joint Scoping With the California State Water Resources Control Board; Request for Comments on the Pad and Scoping Document, and Identification of Issues and Associated Study Requests

a. Type of Filing: Notice of Intent to File License Application for a New License and Commencing Pre-filing Process

b. Project No.: 96-045

c. Dated Filed: November 16, 2017

d. Submitted By: Pacific Gas & Electric Company (PG&E)

e. Name of Project: Kerckhoff Hydroelectric Project

f. Location: On the San Joaquin River, in Fresno and Madera Counties, California, about 25 miles northeast of the city of Fresno, California. The majority of the project is located on lands owned by PG&E, National Forest System Lands administered by the U.S. Forest Service, Sierra National Forest, and on lands managed by the U.S. Bureau of Land Management.

g. Filed Pursuant to: 18 CFR part 5 of the Commission's Regulations.

h. Applicant Contact: Debbie Powell, Senior Director, Power Generation—Operations, Pacific Gas and Electric Company, P.O. Box 770000, MCN11D-1138, San Francisco, CA 94177-0001

i. FERC Contact: Evan Williams at (202) 502-8462 or evan.williams@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC 61,076 (2001).

k. With this notice, we are initiating informal consultation with: (a) The U.S. Fish and Wildlife Service and/or NOAA Fisheries under section 7 of the Endangered Species Act and the joint agency regulations thereunder at 50 CFR, Part 402, (b) NOAA Fisheries under section 305(b)(2) of the Magnuson-Stevens Fisheries Conservation and Management Act; and (c) the State Historic Preservation Officer, as required by section 106, National Historic Preservation Act, and the implementing regulations of the Advisory Council on Historic Preservation at 36 CFR 800.2.

l. With this notice, we are designating PG&E as the Commission's non-federal representatives for carrying out informal consultation, pursuant to: Section 7 of the Endangered Species Act; section 305(b)(2) of the Magnuson-Stevens Fisheries Conservation and Management Act; and section 106 of the National Historic Preservation Act.

m. On November 16, 2017, PG&E filed with the Commission a Pre-Application Document (PAD; including a proposed process plan and schedule), pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

Register online at http://www.ferc.gov/docs-filing/esubscription.asp to be notified via email of new filing and issuances related to this or other pending projects. For assistance, contact FERC Online Support.

o. With this notice, we are soliciting comments on the PAD and Commission's staff Scoping Document 1 (SD1), as well as study requests. All comments on the PAD and SD1, and study requests should be sent to the address above in paragraph h. In addition, all comments on the PAD and SD1, study requests, requests for cooperating agency status, and all communications to and from Commission staff related to the merits of the potential application must be filed with the Commission. Scoping comments should be filed separately with the Commission and California State Water Resources Control Board (State Water Board), as noted below.

Commission:

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE, Washington, DC 20426. The first page of any filing should include docket number P-96-045.

All filings with the Commission must bear the appropriate heading: Comments on Pre-Application Document, Study Requests, Comments on Scoping Document 1, Request for Cooperating Agency Status, or Communications to and from Commission Staff. Any individual or entity interested in submitting study requests, commenting on the PAD or SD1, and any agency requesting cooperating status must do so by March 17, 2018.

State Water Board:

Written comments should be provided as noted below. When submitting your comments, provide the contact person's name and phone number. The State Water Board is seeking information regarding what type of environmental document should be prepared (i.e., negative declaration, mitigated negative declaration, or environmental impact report), as well as scoping comments.

State Water Resources Control Board, Division of Water Rights—Water Quality Certification Program, Attention: Philip Choy, P.O. Box 2000, Sacramento, CA 95812-2000, Phone: (916) 341-5408, Fax: (916) 341-5400, Email: Philip.Choy@waterboards.ca.gov.

Scoping Meetings

Commission staff will hold two scoping meetings in the vicinity of the project at the times and places noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document.

These scoping meetings are being coordinated with the State Water Board and are considered joint scoping meetings for the purposes of both the National Environmental Policy Act (NEPA) and the California Environmental Quality Act (CEQA), should the State Water Board prepare an environmental impact report (EIR). (See Cal. Code Regs., tit. 14, 15083, 15223, 15226.) This notice is intended to provide notice of the State Water Board's informal consultation with responsible and trustee agencies pursuant to section 15063 of the CEQA Guidelines as to the potential for the proposed action to cause a significant impact to the environment. (Cal. Code Regs., tit. 14, § 15063, subd. (g).) Recipients of this notice are invited to comment on whether an EIR, negative declaration, or mitigated negative declaration should be prepared. In addition, pursuant to CEQA Guidelines section 15083, subdivision (c), these meetings are intended to simultaneously serve the purposes identified in California Code of Regulations, title 14, section 15082, subdivision (c). Any responsible or trustee agency or other interested parties that believes an EIR should be prepared should identify the scope and content of any environmental information it believes should be required, should the State Water Board prepare an EIR.

The times and locations of these meetings are as follows:

Daytime Scoping Meeting

Date: Tuesday, February 13, 2018.

Time: 9:00 a.m.

Location: Piccadilly Inn Airport, 5115 E McKinley Ave., Fresno, CA.

Phone: (559) 375-7760.

Evening Scoping Meeting

Date: Tuesday, February 13, 2018.

Time: 6:00 p.m.

Location: Piccadilly Inn Airport, 5115 E McKinley Ave., Fresno, CA.

Phone: (559) 375-7760.

SD1, which outlines the subject areas to be addressed in the environmental document, was mailed to the individuals and entities on the Commission's mailing list. Copies of SD1 will be available at the scoping meetings, or may be viewed on the web at http://www.ferc.gov, using the eLibrary link. Follow the directions for accessing information in paragraph n. Based on all oral and written comments, a Scoping Document 2 (SD2) may be issued. SD2 may include a revised process plan and schedule, as well as a list of issues, identified through the scoping process.

Environmental Site Review

The potential applicant and Commission staff will conduct an Environmental Site Review (site visit) of the project at 8:00 a.m., Wednesday, February 14, 2018. Participants are responsible for their own transportation. Persons planning on participating in the site visit must RSVP to Ms. Lisa Whitman of PG&E at Lisa.Whitman@pge.com or (415) 973-7465, on or before February 1, 2018. Additional details concerning the site visit are provided in SD1.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are provided in item n. of this document.

Meeting Procedures

The meetings will be recorded by a stenographer and will be placed in the public record of the Commission and State Water Board proceedings for this project.

Dated: January 16, 2018.
Kimberly D. Bose,
Secretary.

[FR Doc. 2018-01014 Filed 1-19-18; 8:45 am]

BILLING CODE 6717-01-P